DEPARTMENT OF VETERANS AFFAIRS

Privacy Act of 1974; System of Records

AGENCY: Department of Veterans Affairs (VA), Veterans Benefits Administration (VBA).

ACTION: Notice of a modified matching program.

SUMMARY: The Department of Veterans Affairs (VA) provides notice that the VA intends to re-establish a computer matching agreement with the Social Security Administration (SSA). This disclosure provides VA with data to update the master records of VA applicants and beneficiaries, including Veterans and survivors, and their eligible dependent(s) who are receiving income-dependent benefits. This disclosure also provides VA with data to determine the continued eligibility of those receiving income-dependent benefits and those beneficiaries who are receiving disability compensation at the 100 percent rate because of unemployability, and allow VA to adjust or discontinue benefits accordingly.

DATES: Comments on this matching program must be received no later than March 14, 2018. If no public comment is received during the period allowed for comment or unless otherwise published in the Federal Register by VA, the new system will become effective March 14, 2018. This matching program will begin on December 11, 2017, and end on June 10, 2019, with the option to renew an additional twelve months to June 10, 2020.

ADDRESSES: Written comments may be submitted through www.Regulations.gov; by mail or hand-delivery to Director, Regulation Policy and Management (00REG), Department of Veterans Affairs, 810 Vermont Ave. NW, Room 1064, Washington, DC 20420; or by fax to (202) 273-9026 (not a toll-free number). Comments should indicate that they are submitted in response to “COMPUTER MATCHING AGREEMENT (CMA) BETWEEN THE DEPARTMENT VETARNS AFFAIRS (VA) AND THE SOCIAL SECURITY ADMINISTRATION #1050 (SSA).” Copies of comments received will be available for public inspection in the Office of Regulation Policy and Management, Room 1063B, between the hours of 8:00 a.m. and 4:30 p.m., Monday through Friday (except holidays). Please call (202) 461-4902 for an appointment. (This is not a toll-free number.) In addition, comments may be viewed online at www.Regulations.gov.

FOR FURTHER INFORMATION CONTACT: Bryant Coleman, Program Analyst, Pension and Fiduciary Service (21P), Department of Veterans Affairs, 810 Vermont Ave. NW, Washington, DC 20420, (202) 461-8394.

SUPPLEMENTARY INFORMATION: This disclosure will provide VA with data to update the master records of VA applicants and beneficiaries, including Veterans and survivors, and their eligible dependent(s) who are receiving income-dependent benefits. This disclosure will also provide VA with data to determine the continued eligibility of those receiving income-dependent benefits and those beneficiaries who are receiving disability compensation at the 100 percent rate because of unemployability, and allow VA to adjust or discontinue benefits accordingly.

Legal authority for the disclosures under this agreement is 38 U.S.C. 5106, which requires Federal agencies to furnish VA with information the VA Secretary may request for determining eligibility for or the amount of VA benefits.

SSA will disclose to VA the necessary tax return information from the MEF, last fully published at 71 FR 1819 (January 11, 2006), and amended at 78 FR 40542. SSA will disclose to VA data from Master Files of Social Security Number (SSN) Holders and SSN Applications (the Enumeration System), 60-0058, last fully published at 75 FR 82121 (December 29, 2010), and amended at 78 FR 40542 (July 5, 2013) and 79 FR 8780 (February 13, 2014).

In accordance with the Privacy Act, 5 U.S.C. 552a(o)(2) and (r), copies of the agreement are being sent to both Houses of Congress and to the Office of Management and Budget. This notice is provided in accordance with the provisions of Privacy Act of 1974 as amended by Public Law 100-503.

Participating Agencies: The Social Security Administration (SSA) and VA.

Authority for Conducting the Matching Program: The Privacy Act, 5 U.S.C. 552a, and 38 U.S.C. 5106 authorize VA to enter into this CMA with SSA.

Purpose(s): This disclosure will provide VA with data to update the master records of VA applicants and beneficiaries, including Veterans and survivors, and their eligible dependent(s) who are receiving income-dependent benefits. This disclosure will also provide VA with data to determine the continued eligibility of those receiving income-dependent benefits and those beneficiaries who are receiving disability compensation at the 100 percent rate because of unemployability, and allow VA to adjust or discontinue benefits accordingly.

Categories of Individuals: Veterans and beneficiaries who apply for VA income benefits.

Categories of Records: VA will provide SSA with an electronic file in a format defined by SSA that contains the SSN, name, date of birth, and report year for each applicant, beneficiary, and eligible dependent(s) for whom tax return information is being requested. SSA will verify the SSNs furnished by VA using the Enumeration System. If the SSN of the VA applicant, beneficiary, or dependent(s) submitted to SSA verifies, SSA will return a response to VA that includes earnings data (employer identification and addresses, wage amounts from Form W-2, and earnings amounts from self-employment), SSN verification code, verified SSN, death indicator, annual total wages, and earnings report type on the record subject. If the SSN of the VA applicant, beneficiary, or dependent(s) submitted to SSA fails to verify, SSA will return a response to VA indicating that the SSN did not verify.

System(s) of Records: SSA will disclose to VA the necessary tax return information from the MEF, last fully published at 71 FR 1819 (January 11, 2006), and amended at 78 FR 40542. SSA will disclose to VA data from Master Files of Social Security Number (SSN) Holders and SSN Applications (the Enumeration System), 60-0058, last fully published at 75 FR 82121 (December 29, 2010), and amended at 78 FR 40542 (July 5, 2013) and 79 FR 8780 (February 13, 2014). VA will match the SSA data with data in its system of records (SOR) entitled “Compensation, Pension, Education, and Vocational Rehabilitation and Employment Records-VA (58VA21/22/28),” republished with updated name at 74 FR 14865 (April 1, 2009) and last amended at 77 FR 42593 (July 19, 2012).

Signing Authority

The Senior Agency Official for Privacy, or designee, approved this document and authorized the undersigned to sign and submit the document to the Office of the Federal Register for publication electronically as an official document of the Department of Veterans Affairs. John Oswalt, Executive Director for Privacy, Department of Veterans Affairs approved this document on December 20, 2017 for publication.

Dated: February 7, 2018.
Kathleen M. Manwell,
Program Analyst, VA Privacy Service, Office of Privacy Information and Identity Protection, Office of Quality, Privacy and Risk, Office of Information and Technology, Department of Veterans Affairs.

[FR Doc. 2018-02759 Filed 2-9-18; 8:45 am]

BILLING CODE 8320-01-P